DEPARTMENT OF JUSTICE

Notice of Lodging of Proposed Consent Decree Under The Comprehensive Environmental Response, Compensation and Liability Act

Notice is hereby given that on September 6, 2007, a Consent Decree in United States of America v. M.A. Hanna Plastics Group, Inc., et al., Civil Action No. 06-409-GMS, was lodged with the United States District Court for the District of Delaware.

The United States filed a complaint in June, 2006, against Sidney and Carol Maffett, M.A. Hanna Plastics Group, Inc., and the Wilmington Economic Development Corporation, to recover unreimbursed response costs that EPA incurred at the Site. The proposed consent decree with Sidney and Carol Maffett (“the Maffetts”) resolves the claims of the United States on behalf of EPA against the Maffets for past response costs under section 107(a) of the Comprehensive Environmental Response, Compensation, and Liability Act (“CERCLA”), 42 U.S.C. 9607(a), in connection with the 12th Dump Site (“Site”) in Wilmington, Delaware. Pursuant to the consent decree, the Maffetts will reimburse $100,000 of EPA's past response costs, and will receive a covenant not to sue from EPA for past response costs as set forth in the consent decree.

The Department of Justice will receive for a period of thirty (30) days from the date of this publication comments relating to this proposed Consent Decree. Comments should be addressed to the Assistant Attorney General, Environment and Natural Resources Division, P.O. Box 7611, U.S. Department of Justice, Washington, DC 20044-7611, Attention: Nancy Flickinger (EES), and may be submitted by electronic mail to the following address: pubcomment-ees.enrd@usdoj.gov. Comments should refer to United States of America v. M.A. Hanna Plastics Group, et al., Civil Action No. 06-409-GMS, D.J. Ref. 90-11-3-08301.

The proposed Consent Decree may be examined at the Office of the United States Attorney for the District of Delaware, 1007 Orange Street, Suite 700, Wilmington, Delaware, 19899, and at U.S. EPA Region III's Office, 1650 Arch Street, Philadelphia, PA, 19103. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost for a full copy) payable to the U.S. Treasury.

Robert D. Brook,
Assistant Chief, Environmental Enforcement Section, Environment and Natural Resources Division.

[FR Doc. 07-5032 Filed 10-11-07; 8:45 am]

BILLING CODE 4410-15-M